DEPARTMENT OF TRANSPORTATION

Federal Transit Administration

Draft Environmental Impact Statement for the Red Line Corridor Transit Project; Baltimore, MD

AGENCIES: Federal Transit Administration (FTA), U.S Department of Transportation.

ACTION: Notice of intent to prepare a Draft Environmental Impact Statement (DEIS).

SUMMARY: The Federal Transit Administration (FTA) and the Maryland Transit Administration (MTA) are issuing this notice to advise agencies and the public that, in accordance with the National Environmental Policy Act, the FTA and the MTA will prepare a Draft Environmental Impact Statement (DEIS) to assess the impacts of potential transit alternatives in the Red Line Corridor. This corridor extends from the Social Security complex in Baltimore County through the Baltimore City Central Business District (CBD) to Patterson Park in Baltimore, MD. The Red Line Corridor Transit Project would connect eastern and western communities of Baltimore City and Baltimore County, providing the first east-west fixed rail or bus rapid transit connection in Baltimore, and would provide convenient and efficient access to major employment centers in downtown and in Woodlawn. Growing traffic congestion in the Baltimore region has been identified, particularly in the western quadrant of Baltimore City and Baltimore County and there is an intent to improve access to jobs and improve air quality. Significant development and revitalization efforts are also underway in the corridor that will require additional transportation access.

A 23-member Advisory Committee to MTA developed the Baltimore Region Rail System Plan and identified a transit project in the Red Line Corridor as a priority project for implementation. The Advisory Committee recommended “that the MTA immediately begin environmental analysis, planning and design studies” for the project, based on an assessment that this project will best provide an east-west link to jobs, tourism sites and the University of Maryland in the central business district; provide a link to the employment center with 20,000 jobs in the Social Security/Woodlawn area; provide improved transit service to East and West Baltimore communities; and provide connectivity to the existing bus, MARC commuter and Metro rail lines in Baltimore. The project is also included in the Baltimore Region Constrained Long-Range Transportation Plan.

The purpose of the Red Line Corridor Transit Project DEIS is to examine the engineering feasibility, potential benefits, costs, and social, cultural, economic, built and natural environmental impacts of feasible alternatives in the corridor that will improve transit mobility in the Baltimore metropolitan area. The DEIS will examine and evaluate rail, bus rapid transit (BRT), transportation systems management and transportation demand management (TSM/TDM) strategies, and a no-build alternative. Tunnel, surface and/or aerial construction options will be considered for rail and BRT alternatives.

Scoping Meetings: Public scoping meetings for the Red Line Corridor Transit Project DEIS will be held on:

June 5—Rosemont Tower, 740 Poplar Grove Street—4 p.m.-8 p.m.

June 7—Woodlawn Community Center, 2120 Gwynn Oak Avenue—10 a.m.-2 p.m.

Additional meeting dates, times and locations will be announced on the project web-site accessed through http://www.mtamaryland.com, and these details will be published in the following newspapers:

The Daily Record

The Baltimore Sun

The Catonsville Times

The Baltimore Times

The Afro-American

Howard County Times

East Baltimore Guide

El Tiempo

El Mesejeros

Baltimore Business Journal

Scoping material will be available at the meetings and may also be obtained in advance of the meetings by contacting Mr. Lorenzo Bryant, Project Manager, at the address below. Scoping material will also be made available on the project web-site accessed through http://www.mtamaryland.com. Oral and written comments may be given at the scoping meetings or comments may be sent to the address below. A stenographer will be available at the meetings to record comments. Information will be made available in both English and Spanish.

ADDRESSES: Written comments on the project scope should be sent by August 1, 2003 to Mr. Lorenzo Bryant, Attn: Red Line, Maryland Transit Administration, William Donald Schaefer Tower, 6 St. Paul Street, Baltimore, MD 21202-1614, or via e-mail to railplan@mdot.state.md.us. Mr. Bryant may also be reached by calling (410) 767-3754.

FOR FURTHER INFORMATION CONTACT: If you wish to be placed on the mailing list to receive further information as the study develops, contact Mr. Lorenzo Bryant, Project Manager, or Mr. Jamie Kendrick, Public Outreach Manager, at the above address or railplan@mdot.state.md.us. For further information you may also contact Ms. Gail McFadden-Roberts, AICP, Community Planner, Office of Planning and Program Development, Federal Transit Administration, Region III, phone: (215) 656-7100, fax: (215) 656-7260.

SUPPLEMENTARY INFORMATION:

I. Scoping

The FTA and MTA invite all interested individuals and organizations, and Federal, State, and local agencies to provide comments on the scope of the study. During the scoping process, comments should focus on identifying specific social, cultural, economic, or natural environmental issues to be evaluated and suggest alternatives, which may be less costly or have less environmental impacts, while achieving the similar transportation objectives. The objectives of the Red Line Corridor Transit Project are: to provide the first east-west transit connection in the Baltimore region; to connect communities in eastern and western Baltimore City and County with Baltimore's existing bus, Metro, Light Rail and MARC lines; to provide more efficient travel times for people on one of the most heavily traveled corridors in the region and which is presently subject to increasing traffic congestion; to improve transportation accessibility to existing employment centers in downtown Baltimore and Woodlawn as well as emerging redevelopment areas in Inner Harbor East, Canton, West Baltimore, and at University Center; and to provide a viable transit alternative to single occupancy vehicle (SOV) travel in the Baltimore region, which is a non-attainment area under the Clear Air Act. Comments should focus on the issues and alternatives for analysis and not on a preference for a particular alternative.

Following the public scoping process, public outreach activities will include: meetings with Local Working Groups established for the study and comprised of community leaders; public meetings and hearings; distribution of a study newsletter; project Web site and electronic mail newsletters; and use of other outreach methods and forums. The purpose of the public outreach activities during the Scoping process is to inform the public of the proposed study process and to solicit input from the community on the proposed study. Every effort will be made to ensure that the widest possible range of public participants have the opportunity to attend general public meetings held by MTA to solicit input on the Red Line Corridor Transit Project DEIS. Attendance will be sought through mailings, notices, advertisements, press releases, and other outreach activities.

II. Description of Primary Study Area and Transportation Needs

The Red Line Corridor Transit Project area extends approximately 10.5 miles in an east-west direction within Baltimore City and Baltimore County. The western-most terminus of the study area is located at the Center of Medical/Medicaid Services approximately 2 miles west of I-695 (Baltimore Beltway) near the Social Security Complex in Baltimore County and extends east through the Baltimore City Central Business District (CBD), ending at its eastern-most terminus near Patterson Park. Much of the study area is intensely developed. The western portion of the study area consists primarily of residential land use while the CBD consists primarily of commercial and office space with scattered high-density residential development. The eastern portion of the study area consists of commercial land use and residential development.

The Red Line Corridor Transit Project would provide a connection for eastern and western communities of Baltimore City and Baltimore County and would provide convenient and efficient access to major employment centers in downtown and in Woodlawn, thus supporting redevelopment and neighborhood revitalization efforts in Baltimore City and Baltimore County. The purpose of the Red Line Corridor Transit Project DEIS is to examine in further detail potential solutions for addressing mobility issues in the Baltimore region. The focus of the DEIS will be to identify a preferred alternative to improve mobility in the region while being sensitive to the socio-economic, cultural and natural environmental considerations on a local and regional basis.

The following existing and expected future conditions dictate the need for a transit investment in the Baltimore Metropolitan region:

• While growth and development in the region continue at high rates, mobility and access for commuters to transit options within the region has not grown to the same extent; the Red Line transit project would help to improve current travel and access conditions and anticipate future demands;

• Increased travel is causing congestion and the Red Line transit project would give travelers a real choice in how to get from place to place in the region while helping to free road space for those who chose to drive or who must drive;

• Delay affects all transit users, but the time required to complete commutes by bus or rail continue to increase substantially; the Red Line would give the region a needed east-west transit link that would offer new ridership and provide connectivity with existing bus, heavy rail and light rail service, which would enhance the service and ridership of existing facilities;

• The Baltimore Region is struggling to meet federal health standards for air pollution. New development oriented to a new transit system can help the region meet both its air quality and its economic development goals; and

• Many residents in the region lack transit service and any nearby bus service is often inconvenient, limited and slow due to traffic congestion. The Red Line transit project would provide a feasible mode of transport for commuters while improving the efficiency and effectiveness of the current transit services.

III. Alternatives

The alternatives proposed for evaluation include: a no-build alternative, which includes the current network plus all ongoing and committed projects listed in the Transportation Improvement Program (TIP for the years 2002-2006); a TSM/TDM alternative, which would include improving existing transit services such as additional bus service and routes; and build alternatives which include rail and BRT. The no-build alternative will provide a basis for comparison with the TSM/TDM and build alternatives.

Each build alternative will explore the construction of new transportation infrastructure such as tracks, stations, and maintenance yards. Tunnel, surface and/or aerial options will be developed for each of the build alternative alignments. Multi-modal alternatives will also be explored.

IV. Probable Effects

The FTA and MTA will evaluate all potential changes to the social, cultural, economic, built and natural environment, including land acquisition and displacements; land use, zoning, economic development; parklands; community disruption; aesthetics; historical and archaeological resources; traffic and parking; air quality; noise and vibration; water quality; wetlands; environmentally sensitive areas; endangered species; energy requirements and potential for conservation; hazardous waste; environmental justice; safety and security; and secondary and cumulative impacts. Key areas of environmental concern include areas of potential new construction (e.g. structures, new transit stations, new track, etc.). Impacts will be evaluated for both the short-term construction period and for the long-term period of operation associated with each alternative. Measures to avoid, minimize and mitigate any significant adverse impacts will be identified.

V. FTA Procedures

The Red Line Corridor Transit Project DEIS will be prepared in accordance with section 102(2)(C) of the National Environmental Policy Act (NEPA) of 1969 (as amended) and as implemented by the Council on Environmental Quality (CEQ) regulations (40 CFR parts 1500-1508) and Federal Transit Administration (FTA) regulations (23 CFR part 771), and the FTA Statewide Planning/Metropolitan Planning regulations (23 CFR part 450). These studies will also comply with the requirements of the National Historic Preservation Act of 1966, as amended, section 4(f) of the 1966 U.S. Department of Transportation Act, the 1990 Clean Air Act Amendments, the Executive Order 12898 on Environmental Justice, and other applicable rules, regulations, and guidance documents. In addition, if MTA seeks section 5309 New Starts funding for the project, MTA will be subject to the FTA New Starts regulation (49 CFR part 611). New Starts regulation requires the submission of certain specific information to FTA to support a request to initiate preliminary engineering, which is normally done in conjunction with the NEPA process.

Upon completion, the DEIS will be available for both public and agency review and comment. Public hearings will be held within the study area. Based on the DEIS and the public and agency comments received, a locally preferred alternative will be selected that will be further detailed in the Final EIS.

Issued on: April 8, 2003.
Herman C. Shipman,
Acting Regional Administrator, Federal Transit Administration, TRO III.

[FR Doc. 03-8940 Filed 4-10-03; 8:45 am]

BILLING CODE 4910-57-P